DEPARTMENT OF DEFENSE

Department of the Army

[Docket ID USA-2015-0018]

Submission for OMB Review; Comment Request

ACTION: Notice.

SUMMARY: The Department of Defense has submitted to OMB for clearance, the following proposal for collection of information under the provisions of the Paperwork Reduction Act.

DATES: Consideration will be given to all comments received by February 23, 2017.

FOR FURTHER INFORMATION CONTACT: Fred Licari, 571-372-0493.

SUPPLEMENTARY INFORMATION:

Title, Associated Form and OMB Number: Recreation Use and Expenditure Survey; OMB Control Number 0710-XXXX.

Type of Request: New.

Number of Respondents: 19,050.

Responses per Respondent: 1.11.

Annual Responses: 21,100.

Average Burden per Response: 6 minutes (0.1 hours).

Recreation Use Survey—5 minutes per response.

Abbreviated Bus/Bike Survey—2 minutes per response.

Web-Based Follow-up Economic Survey—11 minutes per response.

Annual Burden Hours: 1,941 hours.

Needs and Uses: This survey estimates the number and type of recreation visits to Corps of Engineers lands and related expenditures. The data collected is used to identify, quantify and evaluate recreation use and expenditures for planning, feasibility studies, environmental assessments, environmental impact statements, development of visitation models, and estimates of economic impacts for both existing water resources projects and proposed water resource development. The survey provides load-factor statistics that can be applied to monthly vehicle traffic meter tallies to estimate use levels.

Affected Public: Individuals or households; Business or other for-profit.

Frequency: On occasion.

Respondent's Obligation: Voluntary.

OMB Desk Officer: Mr. Stuart Levenbach.

Comments and recommendations on the proposed information collection should be emailed to Mr. Stuart Levenbach, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: January 17, 2017.
Aaron Siegel,
Alternate OSD Federal Register Liaison Officer, Department of Defense.

[FR Doc. 2017-01432 Filed 1-23-17; 8:45 am]

BILLING CODE 5001-06-P